DEPARTMENT OF TRANSPORTATION

Federal Aviation Administration

14 CFR Part 71

[Docket No. FAA-2020-0039; Airspace Docket No. 19-ASO-18]

RIN 2120-AA66

Proposed Amendment and Removal of Air Traffic Service (ATS) Routes; Eastern United States

AGENCY: Federal Aviation Administration (FAA), DOT.

ACTION: Notice of proposed rulemaking (NPRM).

SUMMARY: This action proposes to amend 10 jet routes, and remove 8 jet routes, in the eastern United States. This action is in support of the Northeast Corridor Atlantic Route Project to improve the efficiency of the National Airspace System (NAS) and reduce the dependency on ground-based navigational systems.

DATES: Comments must be received on or before March 20, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2020-0039; Airspace Docket No. 19-ASO-18 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2020-0039; Airspace Docket No. 19-ASO-18) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0039; Airspace Docket No. 19-ASO-18.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Eastern Service Center, Federal Aviation Administration, Room 210, 1701 Columbia Ave., College Park, GA 30337.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) part 71 to amend 10 jet routes, and remove 8 jet routes in the eastern United States. This action would support the Northeast Corridor Atlantic Route Project by removing or amending certain jet routes as a result of the continuing development of new high altitude RNAV routes (Q-routes) in the NAS. Additionally, the proposed jet route changes would reduce aeronautical chart clutter by removing unneeded route segments.

Some jet routes discussed in this preamble include points that are identified by the intersection of radials from two VOR or VORTAC navigation facilities. In some cases, those intersections are assigned a specific fix name that is depicted on aeronautical charts (e.g., TYDOE, GA). While these fix names are not stated in the regulatory descriptions of jet routes, they are noted in the preamble text below to assist readers in locating that point on aeronautical charts.

The proposed route changes are as follows:

J-14: J-14 currently extends between the Panhandle, TX, VORTAC; and the Patuxent, MD, VORTAC. The FAA proposes to remove the route segments between the Vulcan, AL, VORTAC and the Greensboro, NC, VORTAC. This would split the route into two separate parts. As amended, J-14 would extend between Panhandle, TX, and Vulcan, AL; followed by a gap in the route, with a second part extending between Greensboro, NC, and Patuxent, MD.

J-20: J-20 currently extends between the Seattle, WA, VORTAC, and the Seminole, FL, VORTAC. This action proposes to remove the segments between the Montgomery, AL, VORTAC and Seminole, FL. The amended route would extend between Seattle, WA, and Montgomery, AL.

J-40: J-40 currently extends between the Montgomery, AL, VORTAC, and the Richmond, VA, VOR/DME. The FAA proposes to remove this entire route.

J-41: J-41 currently extends between the Seminole, FL, VORTAC, and the Omaha, IA, VORTAC. This action would remove the portion of the route between the Seminole, FL, VORTAC, and Montgomery, AL. The amended route would extend between the Montgomery, AL, VORTAC, and Omaha, IA.

J-43: J-43 currently extends between the intersection of the Cross City, FL VORTAC 322° and the Seminole, FL, VORTAC, 359° radials, and the Carleton, MI, VOR/DME. This action would remove the segments between the intersection of the Cross City and the Seminole radials and the Volunteer, TN, VORTAC. The amended route would extend between Volunteer, TN, and Carleton, MI.

J-45: J-45 currently extends between the Alma, GA, VORTAC and the Aberdeen, SD, VOR/DME. The action would remove the segments between the Alma, GA, VORTAC and the Atlanta, GA, VORTAC. The amended route would extend between Atlanta, GA and Aberdeen, SD.

J-51: J-51 currently extends between the intersection of the Columbia, SC, VORTAC, 042° and the Flat Rock, VA, VORTAC, 212° radials, and the Yardley, NJ, VOR/DME. This action proposes to remove the entire route.

J-52: J-52 currently extends, in two segments, between the Vancouver, BC, Canada, VOR/DME and the Columbia, SC, VORTAC; and between the intersection of the Columbia 042° and the Flat Rock, VA, VORTAC, 212° radials, and the Richmond, VA, VOR/DME. The FAA proposes to remove the segments between the Vulcan, AL, VORTAC and the intersection of the Columbia, SC, VORTAC, 042° and the Flat Rock, VA, VORTAC, 212° radials. As amended J-52 would extend, in two parts: between Vancouver, BC, Canada, and Vulcan, AL; followed by a gap in the route, and resuming between the intersection of the Columbia, SC 042° and the Flat Rock, VA, 212° radials, and Richmond, VA. The portion within Canada is excluded.

J-53: J-53 currently extends between the intersection of the Craig, FL 347° and the Colliers, SC 174° radials, and the Pulaski, VA, VORTAC. This action would remove the entire route.

J-73: J-73 currently extends between the intersection of the Seminole, FL, VORTAC, 344° and the Cross City, FL, VORTAC, 322° radials, and Northbrook, IL, VOR/DME. This action proposes to remove the segment between the intersection of the Seminole, FL, 344° and the Cross City, FL, 322° radials, and the La Grange, GA, VORTAC. As amended, the route would extend between La Grange, GA, and Northbrook, IL.

J-75: J-75 currently extends between the Greensboro, NC, VORTAC and the Boston, MA, VOR/DME. This action proposes to remove the entire route.

J-81: J-81 currently extends between the intersection of the Craig, AL, VORTAC, 347° and the Colliers, SC, VORTAC, 174° radials, and Colliers, SC. This action proposes to remove the entire route.

J-85: J-85 currently extends between the Alma, GA, VORTAC, and the Dryer, OH, VOR/DME. This action would remove the segments between Alma, GA, and the Spartanburg, SC, VORTAC. As amended, J-85 would extend between Spartanburg, SC, and Dryer, OH.

J-89: J-89 currently extends between the intersection of the Atlanta, GA, VORTAC, 161° and the Alma, GA, VORTAC, 252° radials, and the Winnipeg, MB, Canada, VORTAC. This action would remove the segments between the intersection of the Atlanta and the Alma radials, and the Atlanta VORTAC. The amended route would extend between the Atlanta, GA, VORTAC and Winnipeg, MB, Canada. The portion within Canada is excluded.

J-91: J-91 currently extends between the intersection of the Cross City, FL, VORTAC, 338° and the Atlanta, GA, VORTAC, 169° radials, and the Henderson, WV, VORTAC. This action would remove the segments between the intersection of the Cross City VORTAC and the Atlanta, GA, VORTAC radials, and the Volunteer, TN, VORTAC. The amended route would extend between the Volunteer, TN, VORTAC and the Henderson VORTAC.

J-97: J-97 currently extends between lat. 39°07′00″ N, long. 67°00′00″ W (the SLATN Fix) and the Boston, MA, VOR/DME. This action proposes to remove the entire route.

J-210: J-210 currently extends between the Vance, SC, VORTAC and the Wilmington, NC, VORTAC. This action proposes to remove the entire route.

J-575: J-575 currently extends between the Boston, MA, VOR/DME and the Yarmouth, NS, Canada, VOR/DME. This action proposes to remove the entire route.

Jet routes are published in paragraph 2004 FAA Order 7400.11D dated August 8, 2019, and effective September 15, 2019, which is incorporated by reference in 14 CFR 71.1. The jet routes amended in, or removed, respectively, from the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes.

J-14 [Amended]

From Panhandle, TX; via Will Rogers, OK; Little Rock, AR; to Vulcan, AL. From Greensboro, NC; Richmond, VA; INT Richmond 039° and Patuxent, MD, 228° radials; to Patuxent.

J-20 [Amended]

From Seattle, WA, via Yakima, WA; Pendleton, OR; Donnelly, ID; Pocatello, ID; Rock Springs, WY; Falcon, CO; Hugo, CO; Lamar, CO; Liberal, KS; INT Liberal 137° and Will Rogers, OK, 284° radials; Will Rogers; Belcher, LA; Magnolia, MS; Meridian, MS; to Montgomery, AL.

J-40 [Remove]

J-41 [Amended]

From Montgomery, AL; Vulcan, AL; Memphis, TN; Springfield, MO, Kansas City, MO, to Omaha, IA.

J-43 [Amended]

From Volunteer, TN; Falmouth, KY; Rosewood, OH; to Carleton, MI.

J-45 [Amended]

From Atlanta, GA; Nashville, TN; St Louis, MO; Kirksville, MO; Des Moines, IA; Sioux Falls, SD; to Aberdeen, SD.

J-51 [Remove]

J-52 [Amended]

From Vancouver, BC, Canada; via Spokane, WA; Salmon, ID; Dubois, ID; Rock Springs, WY; Falcon, CO; Hugo, CO; Lamar, CO; Liberal, KS; INT Liberal 137° and Ardmore, OK, 309° radials; Ardmore; Texarkana, AR; Sidon, MS; Bigbee, MS; to Vulcan, AL. From INT Columbia 042° and Flat Rock, VA 212° radials; Raleigh-Durham, NC; to Richmond, VA. The portion within Canada is excluded.

J-53 [Remove]

J-73 [Amended]

From La Grange, GA; Nashville, TN; Pocket City, IN; to Northbrook, IL.

J-75 [Remove]

J-81 [Remove]

J-85 [Amended]

From Spartanburg, SC; Charleston, WV; INT Charleston 357° and Dryer, OH, 172° radials; Dryer.

J-89 [Amended]

From Atlanta, GA; Louisville, KY; Boiler, IN; Northbrook, IL; Badger, WI; Duluth, MN; to Winnipeg, MB, Canada. The portion within Canada is excluded.

J-91 [Amended]

From Volunteer, TN; to Henderson, WV.

J-97 [Remove]

J-210 [Remove]

J-575 [Remove]

Issued in Washington, DC, on January 29, 2020.
Scott M. Rosenbloom,
Acting Manager, Rules and Regulations Group.

[FR Doc. 2020-02020 Filed 2-3-20; 8:45 am]

BILLING CODE 4910-13-P